DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before February 27, 2012. Address written comments to Statutory Import Programs Staff, Room 3720, U.S. Department of Commerce, Washington, DC 20230. Applications may be examined between 8:30 a.m. and 5:00 p.m. at the U.S. Department of Commerce in Room 3720.

Docket Number: 11-072. Applicant: University of California, Davis, NEAT ORU, One Shields Ave. Davis, CA 95616. Instrument: Alexsys 1000 Calorimeter. Manufacturer: Setaram Instrumentation, France. Intended Use: The instrument will be used to determine enthalpies of formation, phase transition, order-disorder, and other chemical reactions among oxides, silicates, nitrides, and other compounds of rare earths, actinides, and other metals. Research will focus on uranium, thorium, cerium, zirconium, and rare earth-based materials, and the properties of these materials in extreme environments. This instrument is unique in that it combines the sensitivity, long life, and reproducibility of thermopile sensors with a large internal working volume capable of containing the molten oxide solvents used for calorimetry and operating in the range 700-1000 degrees Celsius where such solvents are molten. Conventional differential scanning calorimeters, made by other companies, are completely different in design and do not feature the large sample volume surrounded by a sensitive detector that is essential for solution calorimetry. Justification for Duty-Free Entry: There are no instruments of the same general category being manufactured in the United States. Application accepted by Commissioner of Customs: December 9, 2011.

Docket Number: 12-001. Applicant: The Regents of the University of California, Lawrence Berkeley National Laboratory, 1 Cyclotron Rd M/S 71R0259 Berkeley, CA 94720. Instrument: Berkeley Lab Laser Accelerator “BELLA” 1.3 petawatt laser system. Manufacturer: Thales Optronique S.A., France. Intended Use: The instrument will be used to study the phenomena of Laser Plasma Acceleration (LPA) at elevated peak power intensities and pulse repetition rates, achievable only with the BELLA laser system. Requirements of this system include that it is characterized by a short pulse, high intensity, Ti:sapphire laser able to demonstrate a 10 GeV laser-plasma accelerator module with a pulse energy of 40 Joules on target and a pulse duration of <40 femtoseconds at optimum compression with a repetition rate of 1HZ +/−5%. Justification for Duty-Free Entry: There are no instruments of the same general category being manufactured in the United States. Application accepted by Commissioner of Customs: January 6, 2012.

Dated: January 31, 2012.
Gregory Campbell,
Acting Director, IA Subsidies Enforcement Office.

[FR Doc. 2012-2650 Filed 2-3-12; 8:45 am]

BILLING CODE 3510-DS-P